DEPARTMENT OF THE INTERIOR

National Park Service

Announcement of Subsistence Resource Commission Meeting

AGENCY: National Park Service, Interior.

ACTION: Announcement of Subsistence Resource Commission meeting.

SUMMARY: As required by the Federal Advisory Committee Act, the Superintendent of Lake Clark National Park and Preserve and the Chair of the Lake Clark Subsistence Resource Commission announce a forthcoming meeting of the Subsistence Resource Commission for Lake Clark National Park. The following agenda items will be discussed:

(1) Call to order.

(2) Roll call—Confirm Quorum.

(3) Introductions.

(4) Superintendent's Welcome.

(5) Additions, corrections and agenda approval.

(6) Approval of SRC meeting minutes.

(7) SRC Purpose and Role.

(8) Status of Membership.

(9) Park Subsistence Coordinator's Report.

(10) October 2001 Chairs Workshop Report.

(11) Status of Lake Clark Subsistence Management Plan.

(12) Federal Subsistence Board Actions/Proposals.

(13) Agency Reports and Public Comments.

(14) SRC Work Session—Prepare correspondence/recommendations.

(15) Set time and place of next meeting.

(16) Adjournment.

DATES: The meeting will begin at 10:00 a.m. on Thursday, February 21, 2002 and conclude around 4:30 p.m.

LOCATION: The meeting will be held at the Lake Clark National Park and Preserve Office in Port Alsworth, Alaska, Telephone (907) 781-2218.

FOR FURTHER INFORMATION CONTACT: Mary McBurney, Subsistence Manager, 2525 Gambell St., Anchorage, Alaska, 99503, Telephone (907) 257-2633.

SUPPLEMENTARY INFORMATION: The Subsistence Resource Commissions are authorized under Title VIII, Section 808, of the Alaska National Interest Lands Conservation Act, Pub. L. 96-487, and operate in accordance with the provisions of the Federal Advisory Committees Act.

In light of a recent attempt to relocate National Park Service administrative personnel and offices in Washington, DC, this notice may not be published at least 15 days prior to the meeting. The National Park Service regrets these events, but is compelled to hold the meeting as scheduled because of the significant sacrifice re-scheduling would require of commission members who have adjusted their schedules to accommodate the proposed meeting dates.

Draft minutes of the meeting will be available for public inspection approximately 6 weeks after the meeting at the Lake Clark National Park and Preserve Office in Port Alsworth, Alaska, Phone (907) 781-2218.

Robert L. Arnberger,
Regional Director.

[FR Doc. 02-379 Filed 1-7-02; 8:45 am]

BILLING CODE 4310-70-P